ENVIRONMENTAL PROTECTION AGENCY

[EPA-HQ-AO-2022-0729; FRL-11124-01-OMS]

Agency Information Collection Activities; Submission to the Office of Management and Budget for Review and Approval; Comment Request; Environmental Education Local Grants Progress Report Form (New)

AGENCY: Environmental Protection Agency (EPA).

ACTION: Notice.

SUMMARY: The Environmental Protection Agency (EPA) has submitted an information collection request (ICR), Environmental Education Local Grants Progress Report Form (EPA ICR Number 2731.01, OMB Control Number 2090-NEW) to the Office of Management and Budget (OMB) for review and approval in accordance with the Paperwork Reduction Act. This is a request for approval of a new collection. Public comments were previously requested via the Federal Register on November 15, 2022, during a 60-day comment period. This notice allows for an additional 30 days for public comments.

DATES: Comments may be submitted on or before July 31, 2023.

ADDRESSES: Submit your comments to EPA, referencing Docket ID No. EPA- HQ-AO-2022-0729, to EPA online using www.regulations.gov (our preferred method), by email to docket_oms@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Michael Band, Office of Environmental Education, (1704A), Environmental Protection Agency, 1200 Pennsylvania Ave. NW, Washington, DC 20460; telephone number: 202-564-3155; email address: band.michael@epa.gov.

SUPPLEMENTARY INFORMATION: This is a request for approval of a new collection. An agency may not conduct or sponsor and a person is not required to respond to a collection of information unless it displays a currently valid OMB control number.

Public comments were previously requested via the Federal Register on November 15, 2022, during a 60-day comment period (87 FR 68482). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This notice announces the collection of information related to the U.S. EPA Environmental Education (EE) Local Grants Program. EPA proposes to collect information from this program's grant recipients. Specifically, EPA proposes to have all EE grantees use the progress report form, detailed in the supporting statement, when drafting their Quarterly Progress Reports and Final Reports. By requiring all EE Grantees to use the EE Local Grant Progress Report Form, EPA's Office of Environmental Education will be equipped to gather data on this grant program's outputs, outcomes, the total number of individuals reached, and the total number of underserved communities reached. This information will help EPA ensure projects are on schedule to meet their goals and produce high-quality environmental outputs. Additionally, requiring all EE grantees to submit their Quarterly and Final reports using the proposed form will allow EPA's Office of Environmental Education to accurately track and report the overall impact of this grant program as well as contribute to the Agency's Justice40 reporting requirements.

Form Numbers: EPA Form Number 5800-082.

Respondents/affected entities: Local education agencies, colleges or universities, state education or environmental agencies, nonprofit organizations as described in Section 501(C)(3) of the U.S. Internal Revenue Code, noncommercial educational broadcasting entities as defined and licensed by the U.S. Federal Communications Commission.

Respondent's obligation to respond: Mandatory (in accordance with OMB and EPA regulations, title 2 CFR, parts 200 and 1500, the recipient agrees to submit progress reports on a quarterly basis to the EPA Project Officer within thirty (30) days after each reporting period and the Final Report to the EPA Project Officer within one hundred twenty (120) days after the expiration or termination of the approved project period.

Estimated number of respondents: 240 (per year).

Frequency of response: Four times per year for the Quarterly Progress Reports; one time for the Final Report.

Total estimated burden: 800 hours (per year). Burden is defined at 5 CFR 1320.03(b).

Total estimated cost: $53,664 (per year), includes $0 annualized capital or operation & maintenance costs.

Changes in Estimates: This is a new collection. Over time, the Office of Environmental Education expects the burden numbers to decrease due to increased access to technology.

Courtney Kerwin,
Director, Regulatory Support Division.

[FR Doc. 2023-13950 Filed 6-29-23; 8:45 am]

BILLING CODE 6560-50-P